DEPARTMENT OF HEALTH AND HUMAN SERVICES

Health Resources and Services Administration

One Time Supplement; Award Announcement

AGENCY: Health Resources and Services Administration, HHS.

ACTION: Announcement of a one-time supplement to nine regional AIDS Education Training Centers (AETCs) Programs located at the following institutions: University of Illinois; University of California, San Francisco; University of Colorado; University of Washington; Louisiana State University Health Sciences Center; University of Massachusetts Medical School; Columbia University; Dallas County Hospital District; and University of Pittsburgh.

SUMMARY: The Health Resources and Services Administration's (HRSA) HIV/AIDS Bureau (HAB), Division of Training and Technical Assistance (DTTA), announces the awarding of a one-time supplement to nine regional AETCs during fiscal year (FY) 2004. HRSA awarded these funds to the nine AETCs for targeted education and training to expand the HIV/AIDS treatment capacity of professional and paraprofessional health care providers caring for American Indian/Alaska Native (AI/AN) people on reservations, in rural areas, IHS tribally-managed health care hospitals and clinics, and urban Indian health centers.

Justification: These funds were awarded to existing AETCs because the AETCs are uniquely qualified to provide training on HIV/AIDS care and treatment that is consistent with the Department of Health and Human Services (HHS) HIV Treatment Guidelines. The AETCs are the only entities within the Ryan White Comprehensive AIDS Resources Emergency (CARE) Act that are legislatively required to provide HIV/AIDS training to minority serving care providers. The AETCs are the training arm of the HAB and have provided more than 10 years of quality HIV/AIDS training services on care and treatment to health care providers in the United States and its territories. The AETCs have the existing national, regional and local infrastructure necessary to support the effective delivery of HIV/AIDS training services. The AETCs are linked to resources and services through the national AETC programs, such as the National Minority AETC, National Clinical Consultation Center, and the National Resource Center which will enhance the services available to trainees. Because of the AETC national and regional network and prior work with the AI/AN populations, the AETCs have developed and have access to culturally appropriate curriculum, training needs assessments, and other training materials that are tailored to the target population and needed to support the training activities.

Amount of Award: Funding is awarded as follows:

University of Illinois—$125,000, (Project Period—7/1/02-6/30/05);

University of California, San Francisco—$125,000, (Project Period—7/1/02-6/30/05);

University of Colorado—$125,000, (Project Period—7/1/02-6/30/05);

University of Washington—$125,000, (Project Period—7/1/02-6/30/05);

University of Massachusetts Medical School—$125,000, (Project Period—7/1/02-6/30/05);

Dallas County Hospital District—$175,000, (Project Period—7/1/02-6/30/05);

Louisiana State University Health Sciences Center—$100,000, (Project Period—7/1/02-6/30/05);

Columbia University—$100,000, (Project Period—9/30/02-6/30/05);

University of Pittsburgh—$100,000, (Project Period—7/1/02-6/30/05).

FOR FURTHER INFORMATION CONTACT: Brenda Woods-Francis, M.P.H., R.D., Project Officer, DTTA, HAB, HRSA, 5600 Fishers Lane, Parklawn Building, Room 7-46, Rockville, MD 20857; telephone (301) 443-0415, or e-mail bwoods-francis@hrsa.gov.

Dated: October 18, 2004.
Elizabeth M. Duke,
Administrator.

[FR Doc. 04-23858 Filed 10-25-04; 8:45 am]

BILLING CODE 4165-15-P